DEPARTMENT OF THE INTERIOR

National Park Service

[NPS-WASO-NAGPRA-NPS0032268; PPWOCRADN0-PCU00RP14.R50000]

Notice of Inventory Completion: Michigan State University, East Lansing, MI

AGENCY: National Park Service, Interior.

ACTION: Notice.

SUMMARY: Michigan State University has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Michigan State University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Michigan State University at the address in this notice by August 18, 2021.

FOR FURTHER INFORMATION CONTACT: Judith Stoddart, Associate Provost for University Collections and Arts Initiatives, Michigan State University, 466 W Circle Drive, East Lansing, MI 48824-1044, telephone (517) 432-2524, email stoddart@msu.edu.

SUPPLEMENTARY INFORMATION: Notice is here given in accordance with the Native American Graves Protection and Repatriation Act (NAGPRA), 25 U.S.C. 3003, of the completion of an inventory of human remains and associated funerary objects under the control of Michigan State University, East Lansing, MI. The human remains and associated funerary objects were removed from the Gros Cap Archaeological District, Mackinac County, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Michigan State University professional staff in consultation with representatives of the Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Minnesota Chippewa Tribe, Minnesota (White Earth Band); Nottawaseppi Huron Band of the Potawatomi, Michigan [previously listed as Huron Potawatomi, Inc.]; Pokagon Band of Potawatomi Indians, Michigan and Indiana; Saginaw Chippewa Indian Tribe of Michigan; Sault Ste. Marie Tribe of Chippewa Indians, Michigan; and two non-federally recognized Indian groups, the Burt Lake Band of Ottawa and Chippewa Indians, and the Grand River Band of Ottawa Indians.

An invitation to consult was extended to the Absentee-Shawnee Tribe of Indians of Oklahoma; Bad River Band of the Lake Superior Tribe of Chippewa Indians of the Bad River Reservation, Wisconsin; Chippewa Cree Indians of the Rocky Boy's Reservation, Montana [previously listed as Chippewa-Cree Indians of the Rocky Boy's Reservation, Montana]; Citizen Potawatomi Nation, Oklahoma; Delaware Nation, Oklahoma; Delaware Tribe of Indians; Eastern Shawnee Tribe of Oklahoma; Forest County Potawatomi Community, Wisconsin; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Little Shell Tribe of Chippewa Indians of Montana; Miami Tribe of Oklahoma; Minnesota Chippewa Tribe, Minnesota (Bois Forte Band (Nett Lake); Fond du Lac Band; Grand Portage Band; Leech Lake Band; Mille Lacs Band); Ottawa Tribe of Oklahoma; Peoria Tribe of Indians of Oklahoma; Prairie Band Potawatomi Nation [previously listed as Prairie Band of Potawatomi Nation, Kansas]; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Shawnee Tribe; Sokaogon Chippewa Community, Wisconsin; St. Croix Chippewa Indians of Wisconsin; Stockbridge Munsee Community, Wisconsin; Turtle Mountain Band of Chippewa Indians of North Dakota; and the Wyandotte Nation.

Hereafter, all Indian Tribes and groups listed in this section are referred to as “The Consulted and Notified Tribes and Groups.”

History and Description of the Remains

Beginning in 1958, human remains representing, at minimum, eight individuals were removed from the Gros Cap Archaeological District, Mackinac County, MI. Sites and localities within the District from which human remains were removed include the Gros Cap Site (20MK6), the Camp Fire Site (20MK7), and the vicinity “south of the Ryerse Beach Cottage.” These human remains, together with associated funerary objects, were acquired by Orlando “Orr” Melvin Greenlees and Eva Genevieve Gillmore Greenlees. On at least one occasion, the Greenlees also acquired Native American cultural items from other people, including a Mr. Bicknell. Mr. and Mrs. Greenlees owned the property adjacent to the post-contact era Gros Cap Cemetery and served as its caretakers. The Cemetery is also located within the Gros Cap Archaeological District. In 1970, Alicia Mackin acquired the Greenlees' collection, and on April 12, 1976, Ms. Mackin donated it to Michigan State University Museum.

The human remains (3901.19.2; 3901.21; 3901.29.10; 3901.29.12; 3901.31.1; 3901.32.12; 3901.34.1.1; 3901.34.1.2; 3901.98.4; 3901.98.13) belong to eight individuals of undetermined age and sex. No known individuals were identified. The 85 associated funerary objects are: One lot of chest fragments (3901.20), one animal effigy (3901.19.1), one nugget (3901.19.4), one tortoise shell comb fragment (3901.19.5), one lot of strung glass beads (3901.19.6), one lot bells and beads strung on wire (3901.19.7), one lot of bell and beads on wire (3901.19.10), one lot of white glass trade beads (3901.19.11), one lot of glass trade beads of various colors (3901.19.12), one lot of blue glass trade beads (3901.19.13), one lot of black glass trade beads (3901.19.14), one lot of amber glass trade beads (3901.19.15), one translucent glass trade bead (3901.19.17), one dark teal glass trade bead (3901.19.18), one translucent amber glass trade bead (3901.19.19), one bone or shell bead (3901.19.20), one unidentifiable metal item (3901.19.22), one bone ball (3901.19.23), one shell pendant (3901.19.24), one European copper triangular projectile point (3901.29.1.1), one bone harpoon tip (3901.29.1.2), one brass pendant (3901.29.1.3), one bone harpoon head (3901.29.2), one shell bird effigy runtee (3901.29.4), one shell pendant (3901.29.5), two shell beads (3901.29.6), six blue glass beads (3901.29.7), one lot of fabric with copper weave embedded (3901.29.11), one lot of copper tinkling cones with attached fiber (3901.29.13), one stone grinding stone or ball (3901.98.1), one gray chert gunflint (3901.98.2), one bone spoon (3901.98.3), one lot of blue glass seed beads (3901.98.5), one lot of glass trade beads (3901.98.6), one lot of shell beads (3901.98.7), one stone ball (3901.98.8), one amber glass trade bead (3901.98.9), one charred animal bone (3901.98.10), one fossilized shell (3901.98.11), one lot of woven copper wire (3901.98.12), two circular pieces of iron (3901.98.14), one lot of red ochre (3901.98.15), one iron lock plate (3901.98.16), one grit-tempered ceramic vessel (3901.98.17), 14 fossils (3901.32.1), two dog teeth (3901.32.2), one deer tooth (3901.32.3), one deer toe bone (3901.32.4), three deer bones (3901.32.5), one lot of sturgeon bones (3901.32.6), one lot of mammal and bird bones (3901.32.7), one lot of sucker teeth (3901.32.8), one lot of trout or pike teeth (3901.32.9), one fish bone (3901.32.10), one lot of beaver mandibles and incisors (3901.32.11), one worked bird bone (3901.32.13), and one fragmentary white milky glass trade bead (3901.32.19). Five funerary objects—one awl handle (3901.19.3), one lot of bells (3901.19.8), one lot of beads stuck to corrosion (3901.19.9), one blue and white striped bead (3901.19.16), and one copper tinkling cone (3901.19.21)—are currently missing, but if found, will be transferred with the other cultural items in this notice.

Determinations Made by Michigan State University

Officials of Michigan State University have determined that:

• Pursuant to 25 U.S.C. 3001(9), the human remains described in this notice represent the physical remains of eight individuals of Native American ancestry based on archeological context, biological evidence, geographic location, and museum records.

• Pursuant to 25 U.S.C. 3001(3)(A), the 85 objects described in this notice are reasonably believed to have been placed with or near individual human remains at the time of death or later as part of the death rite or ceremony.

• Pursuant to 25 U.S.C. 3001(2), there is a relationship of shared group identity that can be reasonably traced between the Native American human remains and associated funerary objects and the Absentee-Shawnee Tribe of Indians of Oklahoma; Bad River Band of the Lake Superior Tribe of Chippewa Indians of the Bad River Reservation, Wisconsin; Bay Mills Indian Community, Michigan; Chippewa Cree Indians of the Rocky Boy's Reservation, Montana [previously listed as Chippewa-Cree Indians of the Rocky Boy's Reservation, Montana]; Citizen Potawatomi Nation, Oklahoma; Eastern Shawnee Tribe of Oklahoma; Forest County Potawatomi Community, Wisconsin; Grand Traverse Band of Ottawa and Chippewa Indians, Michigan; Hannahville Indian Community, Michigan; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Shell Tribe of Chippewa Indians of Montana; Little Traverse Bay Bands of Odawa Indians, Michigan; Match-e-be-nash-she-wish Band of Pottawatomi Indians of Michigan; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan [previously listed as Huron Potawatomi, Inc.]; Ottawa Tribe of Oklahoma; Peoria Tribe of Indians of Oklahoma; Pokagon Band of Potawatomi Indians, Michigan and Indiana; Prairie Band Potawatomi Nation [previously listed as Prairie Band of Potawatomi Nation, Kansas]; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Sault Ste. Marie Tribe of Chippewa Indians, Michigan; Shawnee Tribe; Sokaogon Chippewa Community, Wisconsin; St. Croix Chippewa Indians of Wisconsin; Turtle Mountain Band of Chippewa Indians of North Dakota; and the Wyandotte Nation (hereafter referred to as “The Tribes”).

Additional Requestors and Disposition

Lineal descendants or representatives of any Indian Tribe or Native Hawaiian organization not identified in this notice that wish to request transfer of control of these human remains and associated funerary objects should submit a written request with information in support of the request to Judith Stoddart, Associate Provost for University Collections and Arts Initiatives, Michigan State University, 466 W Circle Drive, East Lansing, MI 48824-1044, telephone (517) 432-2524, email stoddart@msu.edu, by August 18, 2021. After that date, if no additional requestors have come forward, transfer of control of the human remains and associated funerary objects to The Tribes may proceed.

Michigan State University is responsible for notifying The Consulted and Notified Tribes and Groups that this notice has been published.

Dated: July 7, 2021.
Melanie O'Brien,
Manager, National NAGPRA Program.

[FR Doc. 2021-15256 Filed 7-16-21; 8:45 am]

BILLING CODE 4312-52-P